ENVIRONMENTAL PROTECTION AGENCY

[FRL-7961-8]

Proposed CERCLA Administrative Agreement; Circuitron Corporation Superfund Site, East Farmingdale, Suffolk County, NY

AGENCY: Environmental Protection Agency (EPA).

ACTION: Notice; request for public comment.

SUMMARY: In accordance with the Agency's May 24, 1995, “Guidance on Agreements with Prospective Purchasers of Contaminated Property,” notice is hereby given of a proposed prospective purchaser agreement (“PPA”) with the United States Environmental Protection Agency; Suffolk County, New York; the State of New York; and an as-of-yet unnamed “Auction Purchaser” regarding a 0.9-acre parcel of real property (the “Property”) included within the Circuitron Corporation Superfund Site, located at 82 Milbar Boulevard in East Farmingdale, Suffolk County, New York (the “Site”). Under the PPA, Suffolk County would market the Property at auction, with a portion of the proceeds to be paid to EPA in reimbursement of response costs it incurred at the Site. Also under the PPA, the United States and the State would covenant not to sue or take administrative action against Suffolk County and its departments and agencies, and the Auction Purchaser, under Sections 106 or 107(a) of the Comprehensive Environmental Response, Compensation, and Liability Act of 1980, as amended (“CERCLA”). EPA also agrees to release the CERCLA Section 107(l) lien against the Property, and waive any lien or right to perfect any lien it may have on the Property now and in the future under Section 107(r) of CERCLA. By publication of this Notice, a thirty (30) day period has been established in which the Agency will accept written comments relating to the PPA agreement. The Agency will consider all comments received and may modify or withdraw its consent to the PPA if comments received disclose facts or considerations which indicate that the agreement is inappropriate, improper, or inadequate. The Agency's response to any comments received will be available for public inspection at the U.S. Environmental Protection Agency, Region II, Office of Regional Counsel, New York/Caribbean Superfund Branch, 290 Broadway, 17th Floor, New York, NY 10007-1866.

DATES: Comments must be submitted on or before September 28, 2005.

ADDRESSES: The proposed PPA and additional background information relating to the settlement are available for public inspection at the U.S. Environmental Protection Agency, Region II, Office of Regional Counsel, New York/Caribbean Superfund Branch, 290 Broadway, 17th Floor, New York, NY 10007-1866. A copy of the proposed PPA may be obtained from the individual listed below. Comments should reference the Circuitron Corporation Superfund Site, East Farmingdale, Suffolk County, New York and EPA Index No. CERCLA-02-2005-2018, and should be addressed to the individual listed below.

FOR FURTHER INFORMATION CONTACT: Carl P. Garvey, Assistant Regional Counsel, New York/Caribbean Superfund Branch, Office of Regional Counsel, U.S. Environmental Protection Agency, 290 Broadway, 17th Floor, New York, NY 10007-1866, Telephone: (212) 637-3181.

Dated: August 19, 2005.
Dore LaPosta,
Acting Regional Administrator, Region II.

[FR Doc. 05-17188 Filed 8-26-05; 8:45 am]

BILLING CODE 6560-50-P